Proclamation 8067 of October 11, 2006

To Modify Rules of Origin Under the North American Free Trade Agreement

By the President of the United States of America

A Proclamation

1. Presidential Proclamation 6641 of December 15, 1993, implemented the North American Free Trade Agreement (the “NAFTA”) with respect to the United States and, pursuant to the North American Free Trade Agreement Implementation Act (Public Law 103-182) (the “NAFTA Implementation Act”), incorporated in the Harmonized Tariff Schedule of the United States (the “HTS”) the tariff modifications and rules of origin necessary or appropriate to carry out the NAFTA.

2. Section 202 of the NAFTA Implementation Act (19 U.S.C. 3332) provides rules for determining whether goods imported into the United States originate in the territory of a NAFTA party and thus are eligible for the tariff and other treatment contemplated under the NAFTA. Section 202(q) of the NAFTA Implementation Act (19 U.S.C. 3332(q)) authorizes the President to proclaim, as a part of the HTS, the rules of origin set out in the NAFTA and to proclaim modifications to such previously proclaimed rules of origin, subject to the consultation and layover requirements of section 103(a) of the NAFTA Implementation Act (19 U.S.C. 3313(a)).

3. The United States, Canada, and Mexico have agreed to modifications to certain NAFTA rules of origin. Modifications to the NAFTA rules of origin reflected in general note 12 to the HTS are therefore necessary.

4. Section 604 of the Trade Act of 1974, as amended (the “1974 Act”) (19 U.S.C. 2483), authorizes the President to embody in the HTS the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States, including section 604 of the 1974 Act and section 202 of the NAFTA Implementation Act, do hereby proclaim:

(1) In order to reflect in the HTS modifications to the rules of origin under the NAFTA, general note 12 to the HTS is modified as provided in the Annex to this proclamation.

(2) The modifications made by this proclamation shall be effective with respect to goods of Canada or of Mexico, under the terms of general note 12 to the HTS, that are entered, or withdrawn from warehouse for consumption, on or after July 1, 2006.

(3) Any provisions of previous proclamations and Executive Orders that are inconsistent with the actions taken in this proclamation are superseded to the extent of such inconsistency.

IN WITNESS WHEREOF, I have hereunto set my hand this eleventh day of October, in the year of our Lord two thousand six, and of the Independence of the United States of America the two hundred and thirty-first.

B

Billing code 3195-01-P

[FR Doc. 06-8715

Filed 10-12-06; 8:46 am]

Billing code 3190-01-C